DEPARTMENT OF COMMERCE

National Oceanic and Atmospheric Administration

RIN 0648-XF126

North Pacific Fishery Management Council; Public Meeting

AGENCY: National Marine Fisheries Service (NMFS), National Oceanic and Atmospheric Administration (NOAA), Commerce.

ACTION: Notice of public meeting.

SUMMARY: The North Pacific Fishery Management Council (Council) Crab Plan Team (CPT) will meet January 17 through January 19, 2017, in Seattle, WA.

DATES: The meeting will be held on Tuesday, January 17, 2017 through Wednesday, January 18, 2017, from 9 a.m. to 5 p.m., and on Thursday, January 19, 2017, from 9 a.m. to 4 p.m.

ADDRESSES: The meeting will be held at the Mountaineers Program Center, Cascade Room, 7700 Sand Point Way NE., Seattle, WA 98115.

Council address: North Pacific Fishery Management Council, 605 W. 4th Ave., Suite 306, Anchorage, AK 99501-2252; telephone: (907) 271-2809.

FOR FURTHER INFORMATION CONTACT: Diana Stram, Council staff; telephone: (907) 271-2809.

SUPPLEMENTARY INFORMATION:

Agenda

Tuesday, January 17, 2017 through Thursday, January 19, 2017

The CPT will review and make recommendations on Norton Sound Red King Crab final assessment OFL/ABC stock prioritization, Aleutian Islands Golden King Crab, model scenarios for final assessment, Tanner Crab modeling, Bristol Bay Red King Crab—GMACs model, Bering Sea Fishery Research Foundation survey issues, dynamic B application and discussion.

The Agenda is subject to change, and the latest version will be posted at http://www.npfmc.org/.

Special Accommodations

These meetings are physically accessible to people with disabilities. Requests for sign language interpretation or other auxiliary aids should be directed to Shannon Gleason at (907) 271-2809 at least 7 working days prior to the meeting date.

Dated: December 28, 2016.
Jeffrey N. Lonergan,
Acting Deputy Director, Office of Sustainable Fisheries, National Marine Fisheries Service.

[FR Doc. 2016-31816 Filed 12-30-16; 8:45 am]

BILLING CODE 3510-22-P